DEPARTMENT OF TRANSPORTATION

Federal Aviation Administration

14 CFR Part 71

[Airspace Docket No. 98-AAL-26]

RIN 2120-AA66

Modification and Revocation of VOR and Colored Federal Airways and Jet Routes; AK

AGENCY: Federal Aviation Administration (FAA), DOT.

ACTION: Final rule; correction.

SUMMARY: This action corrects a final rule published in the Federal Register on June 6, 2000. In that rule, the legal description of Colored Federal Airway Green 8 (G-8) contained an inadvertent error that excluded the Glenallen, AK, NDB Intersection from the description of G-8. This action corrects that error.

EFFECTIVE DATE: February 13, 2001.

FOR FURTHER INFORMATION CONTACT: Ken McElroy, Airspace and Rules Division, ATA-400, Office of Air Traffic Airspace Management, Federal Aviation Administration, 800 Independence Avenue, SW., Washington, DC 20591; telephone: (202) 267-8783.

SUPPLEMENTARY INFORMATION: On June 6, 2000, Airspace Docket No. 98-AAL-26 (65 FR 35822; FR Doc. 00-14044) was published for the modification and revocation of VOR and Colored Federal Airways, and Jet Routes in Alaska. Included in this rule was the amendment to the legal description of G-8 which omitted the Glenallen, AK, NDB Intersection. This action adds the Glenallen intersection to the legal description of G-8, thereby correcting this error.

Correction to Final Rule

Accordingly, pursuant to the authority delegated to me, the legal description for Colored Federal Airway G-8, as published in the Federal Register on June 6, 2000 (65 FR 35822; FR Doc. 00-14044), and incorporated by reference in 14 CFR 71.1, is corrected as follows:

§ 71.1 [Corrected]

On page 35823, correct the legal description of the G-8, to read as follows:

Paragraph 6009 (a)—Green Federal Airways

* * * * *

G-8 [Revised]

From Shemya, AK, NDB, 20 AGL , Mount Moffet, NDB, AK; 20 AGL Dutch Harbor, AK, NDB; 20 AGL INT Dutch Harbor NDB 041° and Elfee, AK, NDB 253° bearings; 20 AGL Elfee NDB; 20 AGL Saldo, AK, NDB; INT Saldo NDB 054° and Kachemak, AK, NDB 269° bearings, to Kachemak NDB. From Campbell Lake, AK, NDB; INT Campbell Lake NDB 031° and Glenallen, AK, NDB 255° bearings; Glenallen NDB; INT Glenallen NDB 052° and Nabesna, AK, NDB 252° bearings; Nabesna NDB.

* * * * *

Issued in Washington, DC, on January 23, 2001.
Reginald C. Matthews,
Manager, Airspace and Rules Division.

[FR Doc. 01-3642 Filed 2-12-01; 8:45 am]

BILLING CODE 4910-13-P